DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on December 13, 1999 [64 FR 69582-69583].

DATES: Comments must be submitted on or before May 10, 2000.

FOR FURTHER INFORMATION CONTACT: Marvin Levy at the National Highway Traffic Safety Administration, Office of Research and Traffic Records (NTS-31), 202-366-5597, 400 Seventh Street, SW, Room 6240, Washington, DC 20590.

SUPPLEMENTARY INFORMATION:

National Highway Traffic Safety Administration

Title: Five State Survey of Alcohol Targets of Opportunity.

OMB Number: 2127-New.

Type of Request: New information collection.

Abstract: The prevention of alcohol-impaired driving is one of NHTSA's top priorities in reducing deaths and injuries from motor-vehicle crashes. The Partners in Progress goal is to reduce the number of alcohol related fatalities from 15,935, in 1998 to 11,000 by the year 2005. In support of this goal, five states were awarded cooperative agreements by NHTSA to demonstrate and evaluate the effectiveness of traffic safety programs that combine increased law enforcement efforts with substantial publicity about these programs. These states were selected because of their potential for reducing the substantial number of percentage of alcohol related fatalities occurring each year within their state.

Affected Public: Those individuals and law enforcement officials from the five states evaluated to reducing driving after drinking.

Estimated Total Annual Burden: 2,499 hours.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, D.C., on April 4, 2000.
Herman L. Simms,
Associate Administrator for Administration.

[FR Doc. 00-8730 Filed 4-7-00; 8:45 am]

BILLING CODE 4910-59-P